DEPARTMENT OF JUSTICE

Antitrust Division

Notice Pursuant to the National Cooperative Research and Production Act of 1993—DVD Forum

Notice is hereby given that, on September 17, 2004, pursuant to Section 6(a) of the National Cooperative Research and Production Act of 1993, 15 U.S.C. 4301 et seq. (“the Act”), DVD Forum has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: DVD Forum, Tokyo, Japan. The nature and scope of DVD Forum's standards development activities are: (a) To establish the single DVD Format for each of the DVD application products, including revisions, improvements and enhancements, that would be in the best interests of consumers and users; and (b) to encourage the broad acceptance of DVD Formats on a worldwide basis among members of the DVD Forum, related industries, and the public.

Dorothy B. Fountain,
Deputy Director of Operations, Antitrust Division.

[FR Doc. 04-26224 Filed 11-26-04; 8:45 am]

BILLING CODE 4416-11-M